DEPARTMENT OF HEALTH AND HUMAN SERVICES

Administration for Children and Families

[Program Announcement No. 02-03]

Family Violence Prevention and Services Program

AGENCY: Office of Community Services (OCS), Administration for Children and Families (ACF), Department of Health and Human Services (DHHS).

ACTION: Notice of the availability of funding to States, Native American tribes, and tribal organizations for Family Violence Prevention and Services.

SUMMARY: This announcement governs the proposed award of formula grants under the Family Violence Prevention and Services Act to States (including Territories and Insular Areas) and Native American tribes and tribal organizations. The purpose of these grants is to assist States and tribes in establishing, maintaining, and expanding programs and projects to prevent domestic violence and to provide immediate shelter and related assistance for victims of domestic violence and their dependents.

This announcement sets forth the application requirements, the application process, and other administrative and fiscal requirements for grants in fiscal year (FY) 2003.

Closing Dates and Applications

The closing time and date for receipt of applications is 4:30 p.m. (eastern time zone) on May 15, 2003.

Deadline: Mailed applications shall be considered as meeting an announced deadline if they are received on or before the deadline time and date at the Office of Community Services, Administration for Children and Families (ACF), Attention: James W. Gray, Ph.D., 5th Floor, West Wing, 370 L'Enfant Promenade, SW., Washington, DC 20447.

ADDRESSES: Applications should be sent to the Department of Health and Human Services, Office of Community Services, Administration for Children and Families, Attention: James W. Gray, Ph.D., 5th Floor, West Wing, 370 L'Enfant Promenade, SW., Washington, DC 20447.

FOR FURTHER INFORMATION CONTACT: William D. Riley (202) 401-5529, James W. Gray (202) 401-5705, or Sunni L. Knight (202) 401-5319, Joseph Lonergan, Director, Division of Mandatory Grants.

Part I. Background Information: Reducing Family and Intimate Violence Through Coordinated Prevention and Services Strategies

The Importance of Coordination of Services

Family and intimate violence has serious and far-reaching consequences for individuals, families, and communities. Estimates from the Department of Justice National Crime Victimization Survey (NCVS) indicate that, in 1998, about 1 million violent crimes were committed against persons by their current or former spouses, boyfriends, or girlfriends. Such crimes termed intimate partner violence are committed primarily against women. It is important to note that, regardless of the demographic characteristics considered, women experienced intimate partner violence at higher rates than men between 1993 and 1998 (Bureau of Justice Statistics 2000).

The impact of family and intimate violence includes physical injury and death of primary or secondary victims, psychological trauma, isolation from family and friends, harm to children witnessing or experiencing violence in homes, in which the violence occurs, increased fear, reduced mobility and employability, homelessness, substance abuse, and a host of other health and related mental health consequences.

It is estimated that between 12 percent and 35 percent of women visiting emergency rooms with injuries are there because of battering. Estimates of the number of women who are homeless because of battering range from 27 percent to 41 percent to 63 percent of all homeless women. The significant correlation between domestic violence and child abuse, and the use of welfare by battered women as an “economic escape route” also suggest the need to coordinate domestic violence intervention activities with those addressing child abuse and the welfare program under the Temporary Assistance for Needy Families (TANF) program at the State and local levels.

When programs that seek to address these issues operate independently of each other, a fragmented, and consequently less effective, service delivery and prevention system may result. Coordination and collaboration among the police, prosecutors, the courts, victim services providers, child welfare and family preservation services, faith and community-based organizations, and medical and mental health service providers is needed to provide more responsive and effective services to victims of domestic violence and their families. It is essential that all interested parties be involved in the design and improvement of intervention and prevention activities.

To help bring about a more effective response to the problem of domestic violence, the Department of Health and Human Services urges State and Native American tribes receiving funds under this grant announcement to coordinate activities funded under this grant with other new and existing resources for the prevention of family and intimate violence and related issues.

Part II. General Programmatic and Funding Information

A. Background

Title III of the Child Abuse Amendments of 1984 (Pub. L. 98-457, 42 U.S.C. 10401 et seq.) is entitled the “Family Violence Prevention and Services Act” (the Act). The Act was first implemented in FY 1986, reauthorized and amended in 1992 by Pub. L. 102-295, in 1994 by Pub. L. 103-322, the Violent Crime Control and Law Enforcement Act, and in 1996 by Pub. L. 104-235, the Child Abuse Prevention and Treatment Act (CAPTA) of 1996. The Act was most recently amended by the “Victims of Trafficking and Violence Protection Act” (Pub. L. 106-386, October 28, 2000).

The purpose of this legislation is to assist States, Native American tribes, and tribal organizations in supporting the establishment, maintenance, and expansion of programs and projects to prevent incidents of domestic violence and to provide immediate shelter and related assistance for victims of domestic violence and their dependents.

During FY 2002, 200 grants were awarded to States and Native American tribes. The Department also awarded 53 family violence prevention grants to nonprofit State domestic violence coalitions.

Additionally, the Department supports the National Resource Center (NRC) for Domestic Violence and four Special Issue Resource Centers (SIRCs). The SIRCs are the Battered Women's Justice Project, the Resource Center on Child Custody and Protection, Sacred Circle Resource Center for the Elimination of Domestic Violence Against Native Women and the Health Resource Center on Domestic Violence. The purpose of the NRC and the SIRCs is to provide resource information, training, and technical assistance to Federal, State, and Native American agencies, local domestic violence prevention programs, and other professionals who provide services to victims of domestic violence.

In February 1996, the Department funded the national domestic violence hotline to ensure that every woman has access to information and emergency assistance wherever and whenever she needs it. The national domestic violence hotline is a 24-hour, toll-free service, which provides crisis assistance, counseling, and local shelter referrals to women across the country. Hotline counselors are also available for non-English speaking persons and for people who are hearing-impaired. The hotline number is 1-800-799-SAFE; the TDD number for the hearing impaired is 1-800-787-3224. As of June 30, 2002 the National Domestic Violence Hotline has answered more than 700,000 calls.

B. Funds Available

Of the total appropriation for the Family Violence Prevention and Services program for FY 2003, the Department of Health and Human Services will allocate 70 percent to the designated State agencies administering Family Violence Prevention and Services programs (section 310 (a)) of the Act. The Department will allocate 10 percent to the tribes and tribal organizations for the establishment and operation of shelters, safe houses, and the provision of related services (section 310 (a)) of the Act. Additionally, we will allocate 10 percent to the State Domestic Violence Coalitions to continue their work within the domestic violence community by providing technical assistance and training, advocacy services with other local domestic violence programs, and to encourage appropriate responses to domestic violence within the States.

Five percent of our FY 2003 appropriation will be available to continue the support for the National Resource Center and the four Special Issue Resource Centers. The remaining five percent of the FY 2003 family violence prevention and services funding will be used to support demonstration programs in the areas of training and technical assistance, collaborative projects with advocacy organizations and service providers, data collection efforts, public education activities, and research and other demonstration activities at the national level.

C. State Allocations

Family Violence grants to the States, the District of Columbia, and the Commonwealth of Puerto Rico are based on a population formula. Each State shall be allotted a base grant of $600,000. The remaining balance of FVPSA funds are to be distributed according to the State population ratio (this ratio reflects the States population to the total populations of all States).

For the purpose of computing allotments, the statute provides that Guam, American Samoa, the Virgin Islands, and the Northern Mariana Islands will each receive grants of not less than one-eighth of one percent of the amounts appropriated.

D. Native American Tribal Allocations

Of the funds available for FY 2003, the Department of Health and Human Services will allocate ten percent for grants to Native American Tribes. Native American Tribes and Tribal Organizations are eligible for funding under this program if they meet the definition of such entities as found in the Indian Self-Determination and Education Assistance Act, 25 U.S.C. 450 b, and are able to demonstrate their capacity to carry out a family violence prevention and services program.

Any Native American tribe that believes it meets the above eligibility criteria and should be included in the list of eligible tribes should provide supportive documentation in its application and a request for inclusion (see Native American Tribal Application Requirements in part V).

In computing Native American tribal allocations, we will use the latest available population figures from the Census Bureau. Where Census Bureau data are unavailable, we will use figures from the Bureau Indian Affairs Indian Population and Labor Force Report.

Because section 304 of the Act specifies a minimum base amount for State allocations, we have set a base amount for Native American tribal allocations. Since FY 1986, we have found in practice that the establishment of a base amount has facilitated our efforts to make a fair and equitable distribution of limited grant funds.

Native American tribes and tribal organizations that meet application requirements are awarded base grants in amounts determined by the following chart:

Category number | Tribal population | Will receive a base amount of—
1 | 1-1,500 | $2,000
2 | 1,501-3,000 | 3,500
3 | 3,001-4,000 | 4,500
4 | 4,001-5,000 | 5,500
5 | 5,001-6,000 | 6,500
6 | 6,001-7,000 | 7,500
7 | 7,001-8,000 | 8,500
8 | 8,001-9,000 | 9,500
9 | 9,001-10,000 | 10,500
10 | 10,001-12,000 | 13,000
11 | 12.001-14,000 | 15,000
12 | 14,001-16,000 | 17,000
13 | 16,001-18,000 | 19,000
14 | 18,001-20,000 | 21,000
15 | 20,001-22,000 | 23,000
16 | 22,001-24,000 | 25,000
17 | 24,001-26,000 | 27,000
18 | 26,001-28,000 | 29,000
19 | 28,001-30,000 | 31,000
20 | 30,001-32,000 | 33,000
21 | 32,001-34,000 | 35,000
22 | 34,001-36,000 | 37,000
23 | 36,001-38,000 | 39,000
24 | 38,001-40,000 | 41,000
25 | 40,001-42,000 | 43,000
26 | 42,001-44,000 | 45,000
27 | 44,001-46,000 | 47,000
28 | 46,001-48,000 | 49,000
29 | 48,001-50,000 | 51,000
30 | 50,001-100,000 | 125,000
31 | 100,001-150,000 | 175,000
32 | 150,001 and over | 225,000

Once the base amounts have been distributed to the tribes that have applied for family violence funding, the ratio of the tribe's population to the total population of all the applicant tribes is then considered in allocating the remainder of the funds. By distributing a proportional amount plus a base amount to the tribes we have accounted for the variance in actual population and scope of the family violence programs. As in previous years, tribes are encouraged to apply as consortia for the family violence funding.

Part III. General Grant Requirements Applicable to States and Native American Tribes

A. Definitions

States and Native American tribes should use the following definitions in carrying out their programs. These definitions are found in section 309 of the Family Violence Prevention and Services Act (the Act).

(1) Family Violence: Any act or threatened act of violence, including any forceful detention of an individual, which (a) results or threatens to result in physical injury and (b) is committed by a person against another individual (including an elderly person) to whom such person is or was related by blood or marriage or otherwise legally related or with whom such person is or was lawfully residing.

(2) Shelter: The provision of temporary refuge and related assistance in compliance with applicable State law and regulation governing the provision, on a regular basis, which includes shelter, safe homes, meals, and related assistance to victims of family violence and their dependents.

(3) Related assistance: The provision of direct assistance to victims of family violence and their dependents for the purpose of preventing further violence, helping such victims to gain access to civil and criminal courts and other community services, facilitating the efforts of such victims to make decisions concerning their lives in the interest of safety, and assisting such victims in healing from the effects of the violence. Related assistance includes:

(a) Services such as outreach and prevention services for victims and their children, employment training, parenting and other educational services for victims and their children, preventive health services within domestic violence programs (including nutrition, disease prevention, exercise, and prevention of substance abuse), domestic violence prevention programs for school age children, family violence public awareness campaigns, and violence prevention counseling services to abusers; prevention services such as education on family cohesion, marital stability, and conflict resolution; and valuing individual choices made within the context of personal spirituality, to include faith-based belief systems, and or tribal traditions.

(b) Counseling with respect to family violence, counseling or other supportive services by peers individually or in groups, and referral to community social services;

(c) Transportation, technical assistance with respect to obtaining financial assistance under Federal and State programs, and referrals for appropriate health-care services (including alcohol and drug abuse treatment), but does not include reimbursement for any health-care services;

(d) Legal advocacy to provide victims with information and assistance through the civil and criminal courts, and legal assistance; or

(e) Children's counseling and support services, and child care services for children who are victims of family violence or the dependents of such victims.

B. Expenditure Periods

The family violence prevention funds under the Act may be used for obligations on and after October 1 of each fiscal year for which they are granted, and will be available for expenditure through September 30 of the following fiscal year. This means that FY 2003 funds may be used for obligations through September 30, 2004. Recipients must liquidate all obligations incurred under the award by September 30, 2005.

The family violence prevention funds allotted to Native American tribes and tribal organizations may be used on or after July 1 of each fiscal year for which they are granted, and will be available through June 30 of the following fiscal year. This means that FY 2003 funds may be used for obligations through June 30, 2004. Recipients must liquidate all obligations incurred under the award by June 30, 2005.

C. Reporting Requirements: Content Requirements of the State and Tribal Performance Report

Section 303(a)(4) requires that States file a performance report with the Department describing the activities carried out, and including an assessment of the effectiveness of those activities in achieving the purposes of the grant. A section of this performance report must be completed by each grantee or subgrantee that performed the direct services contemplated in the State's application certifying performance of such services. State grantees should compile performance reports into a comprehensive report for submission.

The Performance Report should include the following data elements as well as narrative examples of success stories about the services that were provided to victims and their dependents. Please note that section 303 (a) (4) of the Family Violence Prevention and Services Act (FVPS) also requires that the federal director of the FVPSA program suspend funding for an approved application if an applicant fails to submit an annual Performance Report. The Performance Report should include the following data elements:

1. Funding—The total amount of the FVPSA grant funds awarded; the percentage of funding used for shelters, and the percentage of funding used for related services and assistance.

2. Shelters—The total number of shelters and shelter programs (safe homes/motels, etc.) assisted by FVPSA program funding.

• The number of women sheltered.

• The number of shelters and safe houses in the State.

• The number of young children sheltered (birth-12 years of age).

• The number of teenagers and young adults (13-21 years of age).

• The number of men.

• The number of the elderly.

• The average length of stay.

• The number of women, children, teens, and others referred to other shelters.

3. Types of individuals served including special populations. Record information by numbers and percentages against the total population served. Individuals and special populations served should include:

• Racial identification.

• Cultural classification.

• Language (other than English).

• Women of color.

• And other special needs populations.

4. Related services and assistance. List the types of related services and assistance provided to victims and their family members by indicating the number of women, children, and men that have received services. Services and assistance may include but are not limited to the following:

• Individual counseling,

• Group counseling,

• Marital Counseling,

• Crisis intervention/hotline,

• Information and referral,

• Batterers support services,

• Legal advocacy services,

• Transportation,

• Services to teenagers,

• Child care,

• Training and technical assistance,

• Housing advocacy,

• Other innovative program activities.

5. Volunteers—List the total number of volunteers and hours worked.

6. Identified Abuse—Indicate the number of women, children, and men who were identified as victims of physical, sexual, and emotional abuse.

7. Service referrals—List the number of women, children, and men referred for the following services: (Note: If the individual was identified as a batterer please indicate).

• Alcohol abuse,

• Drug abuse,

• Batterer intervention services,

• Abuse as a child,

• Witnessed abuse,

• Emergency medical intervention,

• Law enforcement intervention.

8. The performance report should include narratives of success stories about services provided and the positive impact on the lives of children and families. Examples may include the following:

• An explanation of the activities carried out including an assessment of the major activities supported by the family violence funds, what particular priorities within the State, tribe, or tribal organization were addressed, and what special emphases were placed on these activities;

• A description of the specific services and facilities that your agency funded, contracted with, or otherwise used in the implementation of your program (e.g., shelters, safehouses, related assistance, programs for batterers);

• An assessment of the effectiveness of the direct service activities contemplated in the application;

• A description of how the needs of under-served populations, including populations under-served because of ethnic, racial, cultural, language diversity, or geographic isolation were addressed, and

• A description and assessment of the prevention activities supported during the program year, e.g., community education events, and public awareness efforts.

Performance reports for the States are due on an annual basis on December 29. Performance reports for tribes and tribal organizations are due on an annual basis on September 28 of each year.

D. Reporting Requirements: Deadlines for Program and Financial Reports

All State grantees are reminded that the annual Program Reports and annual Financial Status Reports (Standard Form 269) are due 90 days after the end of each Federal fiscal year, i.e., reports are due on December 28 of each year.

All tribal program reports and annual financial status reports are due 90 days after the end of the expenditure period, i.e., September 29 of each year.

Part IV. Application Requirements for States

A. Eligibility: States

“States” as defined in section 309(6) of the Act are eligible to apply for funds. The term “State” means each of the several States, the District of Columbia, the Commonwealth of Puerto Rico, Guam, American Samoa, the Virgin Islands, the Commonwealth of the Northern Mariana Islands.

In the past, Guam, the Virgin Islands and the Commonwealth of the Northern Mariana Islands have applied for funds as a part of their consolidated grant under the Social Services Block grant (the Republic of Palau has applied for funds through the Community Services Block Grant). These jurisdictions need not submit an application under this Program Announcement if they choose to have their allotment included as part of a consolidated grant application.

B. Approval/Disapproval of a State's Application

The Secretary will approve any application that meets the requirements of the Act and this announcement and will not disapprove any such application except after reasonable notice of the Secretary's intention to disapprove has been provided to the applicant and after a six-month period providing an opportunity for the applicant to correct any deficiencies.

The notice of intention to disapprove will be provided to the applicant within 45 days of the date of the application.

C. Content of the State Application

The State's application must be signed by the Chief Executive of the State or the Chief Program Official designated as responsible for the administration of the Act.

All applications must contain the following information or documents:

(1) The name of the State agency, the name of the Chief Program Official designated as responsible for the administration of funds under this Act, and the name of a contact person if different from the Chief Program Official (section 303)(a)(2)(D)).

(2) A plan describing in detail how the needs of underserved populations will be met, including populations underserved because of ethnic, racial, cultural, language diversity, or geographic isolation (section 303(a)(2)(C)).

(a) Identification of the underserved populations that are being targeted for outreach and services.

(b) In meeting the needs of the underserved population, describe the domestic violence training that will be provided to the individuals who will do the outreach and intervention to these populations; and

(c) Describe the public information component of the State's outreach program; describe the elements of your program that are used to explain domestic violence, the most effective and safe ways to seek help and identify available resources, etc.

(3) Provide a complete description of the process and procedures used to involve State domestic violence coalitions and other knowledgeable individuals and interested organizations, including faith and community-based organizations, to assure an equitable distribution of grants and grant funds within the State and between rural and urban areas in the State (sections 303(a)(2)(C)) and 311(a)(5)).

(4) Provide a complete description of the process and procedures implemented that allow for the participation of the State domestic violence coalition in planning and monitoring the distribution of grant funds and determining whether a grantee is in compliance with (section 303(a)(2)(A), 303(a)(3) and 311(a)(5)).

(5) Provide a copy of the procedures developed and implemented that assure the confidentiality of records pertaining to any individual provided family violence prevention or treatment services by any program assisted under the Act. Include procedures that ensure that individual client records cannot be identified when providing statistical data on program services and activities (section 303(a)(2)(E)).

(6) Include a description of how the State plans to use the grant funds, a description of the target population, the number of shelters to be funded, the services the State will provide, and the expected results from the use of the grant funds (section 303(a)(4)).

(7) Provide a copy of the law or procedures that the State has implemented for the eviction of an abusive spouse from a shared household (section 303)(a)(2)(F)).

All applications must contain the following assurances:

(a) That grant funds under the Act will be distributed to local public agencies and nonprofit private organizations (including religious and charitable organizations and voluntary associations) for programs and projects within the State to prevent incidents of family violence and to provide immediate shelter and related assistance for victims of family violence and their dependents in order to prevent future violent incidents (section 303(a)(2)(A)).

(b) That not less than 70 percent of the funds distributed shall be used for immediate shelter and related assistance to the victims of family violence and their dependents and not less than 25 percent of the funds distributed shall be used to provide related assistance (section 303(f)).

(c) That not more than 5 percent of the funds will be used for State administrative costs (section 303(a)(2)(B)(i)).

(d) That in distributing the funds, the States will give special emphasis to the support of faith and community-based projects of demonstrated effectiveness carried out by non-profit private organizations, particularly those projects the primary purpose of which is to operate shelters for victims of family violence and their dependents and those which provide counseling, advocacy, and self-help services to victims and their children (section 303(a)(2)(B)(ii)).

(e) That grants funded by the States will meet the matching requirements in section 303(e), i.e., not less than 20 percent of the total funds provided for a project under this title with respect to an existing program, and with respect to an entity intending to operate a new program under this title, not less than 35 percent. The local share will be cash or in kind; and the local share will not include any Federal funds provided under any authority other than this title (section 303(e)).

(f) That grant funds made available under this program by the State will not be used as direct payment to any victim or dependent of a victim of family violence (section 303(c)).

(g) That no income eligibility standard will be imposed on individuals receiving assistance or services supported with funds appropriated to carry out the Act (section 303(d)).

(h) That the address or location of any shelter-facility assisted under the Act will not be made public, except with the written authorization of the person or persons responsible for the operation of such shelter (section 303(a)(2)(E)).

(i) That programs or activities funded in whole or in part under the Act will prohibit discrimination on the basis of age, handicap, sex, race, color, national origin or religion (section 307).

(j) That funds made available under the FVPSA will be used to supplement and not supplant other Federal, State, and local public funds expended to provide services and activities that promote the purposes of the FVPSA.

(k) That States will comply with the applicable Departmental record-keeping and reporting requirements and general requirements for the administration of grants under 45 CFR part 92.

Part V. Application Requirements for Native American Tribes

A. Eligibility: Native American Tribes

As described above, Native American tribes and tribal organizations are eligible for funding under this program if they meet the definition of such entities as found in subsections (b) and (c) of section 4 of the Indian Self-Determination and Education Assistance Act and are able to demonstrate their capacity to carry out a family violence prevention and services program.

A list of currently eligible Native American tribes is found at Appendix B of this document. Any Native American tribe that believes it meets the eligibility criteria and should be included in the list of eligible tribes should provide supportive documentation and a request for inclusion in its application (see Application Content Requirements below).

As in previous years, Native American tribes may apply singularly or as a consortium. In addition, a non-profit private organization, approved by a Native American tribe for the operation of a domestic violence shelter or program on a reservation is eligible for funding.

B. Approval/Disapproval of a Native American Tribes Application

The Secretary will approve any application that meets the requirements of the Act and this Announcement, and will not disapprove an application unless the Native American tribe or tribal organization has been given reasonable notice of the Department's intention to disapprove and an opportunity to correct any deficiencies (section 303(B)(2)).

C. Native American Tribe Application Content Requirements

The application from a Native American tribe must be signed by the Chief Executive Officer or tribal chairperson of the tribe.

All applications must contain the following information/documents:

(1) The name of the organization or agency and the Chief Program Official designated as responsible for administering funds under the Act, and the name, telephone number, and fax number, if available, of a contact person in the designated organization or agency.

(2) A copy of a current resolution stating that the designated organization or agency has the authority to submit an application on behalf of the Native American individuals in the tribe(s) and to administer programs and activities funded under this program (section 303(b)(2)).

(3) A description of the procedures designed to involve knowledgeable individuals and interested organizations in providing services under the Act (section 303(b)(2)). For example, knowledgeable individuals and interested organizations may include: tribal officials or social services staff involved in child abuse or domestic violence prevention, tribal law enforcement officials, representatives of State coalitions against domestic violence, and operators of domestic violence shelters and service programs.

(4) A description of the tribe's operation of and/or capacity to carry out a domestic violence prevention and services program. This might be demonstrated in ways such as the following:

(a) The current operation of a shelter, safehouse, or domestic violence prevention program;

(b) The establishment of joint or collaborative service agreements with a local public agency or a private non-profit agency for the operation of domestic violence prevention activities or services; or

(c) The operation of social services programs as evidenced by receipt of “638” contracts with the Bureau of Indian Affairs (BIA); title II Indian Child Welfare grants from the BIA; Child Welfare Services grants under title IV-B of the Social Security Act; or Family Preservation and Family Support grants under title IV-B of the Social Security Act.

(5) A description of the services to be provided, how the Native American tribe or tribal organization plans to use the grant funds to provide the direct services, to whom the services will be provided, and the expected results of the services (section 303(b)(2)).

(6) Documentation of the procedures that assure the confidentiality of records pertaining to any individual provided family violence prevention or treatment services by any program assisted under the Act. Include procedures that ensure that individual client records cannot be identified when providing statistical data on program services and activities (section 303(a)(2)(E)).

(7) The EIN number of the Native American tribe, tribal organization, or non-profit organization submitting the application.

Each application must contain the following assurances:

(a) That not less than 70 percent of the funds shall be used for immediate shelter and related assistance for victims of family violence and their dependents and not less than 25 percent of the funds distributed shall be used to provided related assistance (section 303(f)).

(b) That grant funds made available under the Act will not be used as direct payment to any victim or dependent of a victim of family violence (section 303(c)).

(c) That the address or location of any shelter or facility assisted under the Act will not be made public, except with the written authorization of the person or persons responsible for the operations of such shelter (section 303(a)(2)(E)).

(d) That law or procedure has been implemented for the eviction of an abusing spouse from a shared household (section 303(a)(2)(F)).

(e) That all programs or activities funded in whole or in part under the Act will prohibit discrimination on the basis of age, handicap, sex, race, color, national origin or religion (section 307).

(f) That applicant will comply with the applicable Departmental record-keeping and reporting requirements and general requirements for the administration of grants under 45 CFR parts 74 and 92.

Part VI. Other Information

A. Notification Under Executive Order 12372

For States, this program is covered under Executive Order 12372, “Intergovernmental Review of Federal Programs,” for State plan consolidation and implication only—45 CFR 100.12. The review and comment provisions of the Executive Order and part 100 do not apply. Federally-recognized Native American tribes are exempt from all provisions and requirements of E.O. 12372.

B. Paperwork Reduction Act

In accordance with the Paperwork Reduction Act of 1980 (Pub. L. 96-511), the application requirements contained in this instruction have been approved by the Office of Management and Budget under control number 0970-0062.

C. Certifications

Applications must comply with the required certifications found at Appendix A as follows:

1. Anti-Lobbying Certification and Disclosure Form. Pursuant to 45 CFR part 93, the certification must be signed and submitted with the application. If applicable, a standard form LLL, which discloses lobbying payments must be submitted.

2. Certification Regarding Drug-Free Workplace Requirements.

3. Certification Regarding Debarment: The signature on the application by the chief program official attests to the applicants intent to comply with the Drug-Free Workplace requirements and compliance with the Debarment Certification. The Drug-Free Workplace and Debarment certifications do not have to be returned with the application.

4. Certification Regarding Environmental Tobacco Smoke: The signature on the application by the chief program official attests to the applicants intent to comply with the requirements regarding environmental tobacco smoke and services to children under age 18 of the Pro-Children Act of 1994. The applicant further agrees that it will require the language of this certification be included in any sub-awards which contain provisions for children's services and that all grantees shall certify accordingly.

(Catalog of Federal Domestic Assistance number 93.671, Family Violence Prevention and Services.)
Dated: April 8, 2003.
Clarence H. Carter,
Director, Office of Community Services.

Appendix A—Required Certifications:

Attachment—A Certification Regarding Lobbying and Disclosure of Lobbying Activities and Instructions

Attachment—B Certification Regarding Debarment;

Attachment—C Regarding Environmental Tobacco Smoke; and

Attachment—D Drug-Free Workplace Requirements.

BILLING CODE 4184-01-P

[FR Doc. 03-9154 Filed 4-14-03; 8:45 am]

BILLING CODE 4184-01-C